DEPARTMENT OF ENERGY

Federal Energy Regulatory Commission

[Docket No. CP05-29-000; CP05-30-000; and CP05-31-000]

Freebird Gas Storage, L.L.C.; Notice of Site Visit

December 20, 2004.

On January 5, 2005, the Office of Energy Projects (OEP) staff will conduct a pre-certification site visit of Freebird Gas Storage, L.L.C.'s (Freebird) planned Freebird Gas Storage Project. The project consists of about 4.28 miles of 16-inch-diameter pipeline that would connect Freebird's gas storage to the “500 leg” of Tennessee Gas Pipeline Company in Lamar County, Alabama.

We will view the proposed route and variations that are being considered for the planned pipeline and gas storage. Examination will be by automobile and on foot. Representatives of Freebird will be accompanying the OEP staff.

All interested parties may attend. Those planning to attend must provide their own transportation. Those interested in attending should meet at 8 a.m. (c.s.t.) in the parking lot/area of the Econolodge Hamilton, located at 2031 Military Street South in Hamilton, Alabama.

For additional information, please contact the Commission's Office of External Affairs at 1-866-208-FERC.

Magalie R. Salas,
Secretary.

[FR Doc. E4-3834 Filed 12-27-04; 8:45 am]

BILLING CODE 6717-01-P